DEPARTMENT OF JUSTICE

Notice of Lodging of Proposed Consent Decree Under the Comprehensive Environmental Response, Compensation and Liability Act

On September 30, 2022, the Department of Justice lodged a proposed Consent Decree with the United States District Court for the District of Montana in the lawsuit entitled United States v. Atlantic Richfield Company, Civil Action No. CV89-039-BU-SEH.

The Consent Decree would resolve the United States' and State of Montana's claims against the Atlantic Richfield Company under Section 107(a) of the Comprehensive Environmental Response, Compensation, and Liability Act, 42 U.S.C. 9607(a), and the Montana Comprehensive Environmental Cleanup and Responsibility Act, 75-10-701, et seq., for the recovery of costs related to the release of hazardous substances at the Anaconda Smelter NPL Site (the “Site”) in Deer Lodge County, Montana. The Consent Decree would require Atlantic Richfield to reimburse the United States for $48,000,000 in past response costs and future oversight costs that have been or will be incurred in responding to contamination at the Site. AR will also pay the U.S. Forest Service $185,752 to reimburse anticipated future costs that will be spent overseeing Atlantic Richfield's remedial activities on U.S. Forest Service administered lands. Finally, AR will complete all cleanup actions required under the various Records of Decision, amendments thereto, and other decision documents issued by the U.S. Environmental Protection Agency (“EPA”) for the Site. Many of these actions have already been initiated and completed or substantially completed by Atlantic Richfield pursuant to various unilateral administrative orders issued by EPA since the 1990s.

The estimated cost of the work required of Atlantic Richfield under the Consent Decree is $83.1 million. This includes future long-term operation and maintenance activities to assure the protectiveness of the Site remedies. AR will provide financial assurance through letters of credit and/or surety bonds to guarantee funds for this amount. Finally, upon entry of the proposed Consent Decree, the obligations that AR assumed under the 2020 Partial Consent Decree for the Anaconda Smelter NPL Site will be incorporated into and superseded by the more extensive requirements of this Consent Decree.

The publication of this notice opens a period for public comment on the Consent Decree. Comments should be addressed to the Assistant Attorney General, Environment and Natural Resources Division, and should refer to United States and State of Montana v. Atlantic Richfield Company, D.J. Ref. No. 90-11-2-430. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree and its five (5) appendices may be examined and downloaded at this Justice Department website: https://www.justice.gov/enrd/consent-decrees. We will provide a paper copy of the Consent Decree without the appendices upon written request and payment of reproduction costs. Please mail your request and payment to: Consent Decree Library, U.S. DOJ—ENRD, P.O. Box 7611, Washington, DC 20044-7611.

Please enclose a check or money order for $28.50 (25 cents per page reproduction cost) payable to the United States Treasury for a paper copy of the Consent Decree without the appendices.

Susan Akers,
Assistant Section Chief, Environmental Enforcement Section, Environment and Natural Resources Division.

[FR Doc. 2022-21644 Filed 10-4-22; 8:45 am]

BILLING CODE 4410-15-P